DEPARTMENT OF VETERANS AFFAIRS

Advisory Committee on Women Veterans, Notice of Meeting

The Department of Veterans Affairs (VA) gives notice under the Federal Advisory Committee Act, 5 U.S.C. App. 2, that the Advisory Committee on Women Veterans will conduct a site visit on September 21-24, 2015, in Washington, DC. Meetings are open to the public, except when the Committee is off site for facility tours. Sessions at the Washington DC VA Medical Center and Walter Reed National Military Medical Center will be closed, to protect patient privacy during tours of medical facilities. Closing portions of the sessions are in accordance with 5 U.S.C. 552b(c)(6). Briefings at VA Central Office will be open to the public. The site visit will also include a town hall meeting.

The purpose of the Committee is to advise the Secretary of Veterans Affairs regarding the needs of women Veterans with respect to health care, rehabilitation, compensation, outreach, and other programs and activities administered by VA designed to meet such needs. The Committee makes recommendations to the Secretary regarding such programs and activities.

On September 21, the Committee will convene an open session at VA Central Office, room 930, from 9:00 a.m. to 4:30 p.m. The agenda will include a status review of recommendations from the Committee's 2010, 2012, 2014 reports; an overview of VA initiatives, and a working session for the Committee to develop its response to a Congressionally-mandated study.

On the morning of September 22, the Committee will convene a closed session from 8:30 a.m. to 11:30 a.m., as it visits the Washington DC VA Medical Center, 50 Irving Street NW., Washington, DC 20422. The Committee will reconvene an open session in the afternoon, as it conducts a town hall meeting with the women Veterans community and other stakeholders at the Women's Memorial, located at the ceremonial entrance to Arlington National Cemetery, in Arlington, VA. The town hall meeting will take place from 2:00 p.m. to 3:30 p.m.

On September 23, the Committee will convene an open session at VA Central Office, in the G.V. Sonny Montgomery Conference Center, room 230, from 8:30 a.m. to 4:30 p.m. Briefings will include an update on VA's National Women Veterans Campaign, various women health issues, education and employment initiatives; an update briefing on the 2014 Report of the Advisory Committee on Women Veterans; and continuation of the Committee's working session.

On the morning of September 24, the Committee will convene a closed session, 8:30 a.m. to 2:30 p.m. as it visits Walter Reed National Military Medical Center, 8901 Rockville Pike, Bethesda, MD 20889. In the afternoon, the Committee will reconvene an open session at VA Central Office, in the G.V. Sonny Montgomery Conference Center, room 230 from 3:00 p.m. to 4:30 p.m., to conduct a brief after action discussion.

Members of the public may submit a written statement for the Committee's review to 00W@mail.va.gov, or by fax at (202) 273-7092. Any member of the public wishing to attend, appear before, or seeking additional information should contact Shannon L. Middleton at (202) 461-6193.

Dated: August 20, 2015.
Jelessa M. Burney,
Federal Advisory Committee Management Officer.

[FR Doc. 2015-20952 Filed 8-24-15; 8:45 am]

BILLING CODE P